DEPARTMENT OF STATE

[Public Notice: 7734]

Bureau of Political Military Affairs: Directorate of Defense Trade Controls; Notifications to the Congress of Proposed Commercial Export Licenses

SUMMARY: Notice is hereby given that the Department of State has forwarded the attached Notifications of Proposed Export Licenses to the Congress on the dates indicated on the attachments pursuant to sections 36(c) and 36(d) and in compliance with section 36(f) of the Arms Export Control Act (22 U.S.C. 2776).

DATES: Effective Date: As shown on each of the 41 letters.

FOR FURTHER INFORMATION CONTACT: Mr. Robert S. Kovac, Managing Director, Directorate of Defense Trade Controls, Bureau of Political Military Affairs, Department of State, (202) 663-2861.

SUPPLEMENTARY INFORMATION: Section 36(f) of the Arms Export Control Act mandates that notifications to the Congress pursuant to sections 36(c) and 36(d) must be published in the Federal Register when they are transmitted to the Congress or as soon thereafter as practicable.

August 8, 2011 (Transmittal Number 11-027)

The Honorable John A. Boehner, Speaker of the House of Representatives.

Dear Mr. Speaker: Pursuant to Sections 36(c) and 36(d) of the Arms Export Control Act, I am transmitting, herewith, certification of a proposed amendment to a manufacturing license agreement for the manufacture of significant military equipment abroad and the export of defense articles, including technical data, and defense services abroad in the amount of $50,000,000 or more.

The transaction described in the attached certification involves the export of defense articles, including technical data, and defense services to support the manufacture of Communication and Navigation Equipment for end-use by the Saudi Arabian Ministry of Defense and Aviation, Royal Saudi Air Force.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

July 25, 2011 (Transmittal Number 11-030)

The Honorable John A. Boehner, Speaker of the House of Representatives.

Dear Mr. Speaker: Pursuant to Section 36(c) of the Arms Export Control Act, I am transmitting, herewith, certification of a proposed technical assistance to include the export of defense articles, to include technical data, and defense services in the amount of $50,000,000 or more.

The transaction described in the attached certification involves the export of defense articles, to include technical data, and defense services related to the sale of M4 Carbines to the Ministry of Defense of Malaysia.

The United States Government is prepared to license the export of these items having taken into account political, military, economic, human rights, and arms control considerations.

More detailed information is contained in the formal certification which, though unclassified, contains business information submitted to the Department of State by the applicant, publication of which could cause competitive harm to the United States firm concerned.

Sincerely,

Joseph E. Macmanus,

Acting Assistant Secretary, Legislative Affairs.

July 18, 2011 (Transmittal Number 11-034)

The Honorable John A. Boehner, Speaker of the House of Representatives.

Dear Mr. Speaker: Pursuant to Sections 36(c) and 36(d) of the Arms Export Control Act, I am transmitting, herewith, certification of a proposed manufacturing license agreement for the manufacture of significant military equipment abroad and the export of defense articles, including technical data, and defense services in the amount of $50,000,000 or more.

The transaction described in the attached certification involves the export of defense articles, including technical data, and defense services to support the manufacture in the United Kingdom of the Joint Services General Purpose Masks (M50 and M51).

The United States Government is prepared to license the export of these items having taken into account political, military, economic, human rights, and arms control considerations.

More detailed information is contained in the formal certification which, though unclassified, contains business information submitted to the Department of State by the applicant, publication of which could cause competitive harm to the United States firm concerned.

Sincerely,

Joseph E. Macmanus

Acting Assistant Secretary, Legislative Affairs.

August 9, 2011 (Transmittal Number 11-042)

The Honorable John A. Boehner, Speaker of the House of Representatives.

Dear Mr. Speaker: Pursuant to Section 36(c) of the Arms Export Control Act, I am transmitting, herewith, certification of a proposed amendment to a technical assistance agreement to include the export of defense articles, including technical data, and defense services in the amount of $50,000,000 or more.

The transaction described in the attached certification involves the export of defense articles, including technical data, and defense services to Italy, Switzerland, and the United Kingdom for the support of mechanical, avionics, environmental and lighting systems for the Joint Cargo Aircraft C-27J and industrial baseline variants for end-use by the Governments of Bulgaria, Greece, Italy, Lithuania, Morocco, Romania, and the United States.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams

Assistant Secretary, Legislative Affairs.

July 18, 2011 (Transmittal Number 11-043)

The Honorable John A. Boehner, Speaker of the House of Representatives.

Dear Mr. Speaker: Pursuant to Section 36(c) of the Arms Export Control Act, I am transmitting, herewith, certification of a proposed export license for the export of defense articles, including technical data, or defense services that are controlled under Category I of the United States Munitions List and sold commercially under contract in the amount of $1,000,000 or more.

The transaction described in the attached certification involves the permanent transfer of defense articles, including technical data, and defense services related to the sale of M60E4/MK43 general purpose machine guns, accessories, training and spare parts to the Colombian National Police.

The United States Government is prepared to license the export of these items having taken into account political, military, economic, human rights, and arms control considerations.

More detailed information is contained in the formal certification which, though unclassified, contains business information submitted to the Department of State by the applicant, publication of which could cause competitive harm to the United States firm concerned.

Sincerely,

Joseph E. Macmanus,

Acting Assistant Secretary, Legislative Affairs.

July 25, 2011 (Transmittal Number 11-045)

The Honorable John A. Boehner, Speaker of the House of Representatives.

Dear Mr. Speaker: Pursuant to Section 36(c) of the Arms Export Control Act, I am transmitting, herewith, certification of a proposed technical assistance agreement to include the export of defense articles, to include technical data, and defense services in the amount of $50,000,000 or more.

The transaction described in the attached certification involves the transfer of defense articles, to include technical data, and defense services to support the Proton launch of the SES-6 Commercial Communication Satellite from the Baikonur Cosmodrome in Kazakhstan.

The United States Government is prepared to license the export of these items having taken into account political, military, economic, human rights, and arms control considerations.

More detailed information is contained in the formal certification which, though unclassified, contains business information submitted to the Department of State by the applicant, publication of which could cause competitive harm to the United States firm concerned.

Sincerely,

Joseph E. Macmanus,

Acting Assistant Secretary, Legislative Affairs.

July 25, 2011 (Transmittal Number 11-046)

The Honorable John A. Boehner, Speaker of the House of Representatives.

Dear Mr. Speaker: Pursuant to Section 36(c) of the Arms Export Control Act, I am transmitting, herewith, certification of a proposed technical assistance agreement to include the export of defense articles, to include technical data, and defense services in the amount of $50,000,000 or more.

The transaction described in the attached certification involves the transfer of defense articles, to include technical data, and defense services to support the Proton launch of the Turksat 4A and Turksat 4B Commercial Communication Satellites from the Baikonur Cosmodrome in Kazakhstan.

The United States Government is prepared to license the export of these items having taken into account political, military, economic, human rights, and arms control considerations.

More detailed information is contained in the formal certification which, though unclassified, contains business information submitted to the Department of State by the applicant, publication of which could cause competitive harm to the United States firm concerned.

Sincerely,

Joseph E. Macmanus,

Acting Assistant Secretary, Legislative Affairs.

July 25, 2011 (Transmittal Number 11-047)

The Honorable John A. Boehner, Speaker of the House of Representatives.

Dear Mr. Speaker: Pursuant to Section 36(c) of the Arms Export Control Act, I am transmitting, herewith, certification of a proposed technical assistance agreement to include the export of defense articles, including technical data, and defense services in the amount of $50,000,000 or more.

The transaction described in the attached certification involves the export of defense articles, including technical data, and defense services related to the Rolling Airframe Missile (RAM) Guided Missile Weapon System (GMWS) to the Armed Forces of the United Arab Emirates.

The United States Government is prepared to license the export of these items having taken into account political, military, economic, human rights, and arms control considerations.

More detailed information is contained in the formal certification which, though unclassified, contains business information submitted to the Department of State by the applicant, publication of which could cause competitive harm to the United States firm concerned.

Sincerely,

Joseph E. Macmanus,

Acting Assistant Secretary, Legislative Affairs.

July 25, 2011 (Transmittal Number 11-051)

The Honorable John A. Boehner, Speaker of the House of Representatives.

Dear Mr. Speaker: Pursuant to Section 36(c) of the Arms Export Control Act, I am transmitting, herewith, certification of a proposed technical assistance agreement to include the export of defense articles, including technical data, and defense services in the amount of $50,000,000 or more.

The transaction described in the attached certification involves the export of defense articles, including technical data, and defense services to Sweden for the design, development, operation, installation, integration, testing, support, maintenance, overhaul, repair, and sale of the Auxiliary Power and Engine Start System (APESS) for use in the JAS 39 Gripen aircraft and Next Generation Gripen aircraft for end-use by the Swedish Armed Forces and the Governments of Brazil, Czech Republic, Hungary, India, Switzerland, and Thailand.

The United States Government is prepared to license the export of these items having taken into account political, military, economic, human rights, and arms control considerations.

More detailed information is contained in the formal certification which, though unclassified, contains business information submitted to the Department of State by the applicant, publication of which could cause competitive harm to the United States firm concerned.

Sincerely,

Joseph E. Macmanus,

Acting Assistant Secretary, Legislative Affairs.

August 11, 2011 (Transmittal Number 11-054)

The Honorable John A. Boehner, Speaker of the House of Representatives.

Dear Mr. Speaker: Pursuant to Section 36(c) of the Arms Export Control Act, I am transmitting, herewith, certification of a proposed manufacturing license agreement to include the export of defense articles, to include technical data, and defense services in the amount of $1,000,000 or more.

The transaction described in the attached certification involves the export of 5.56mm rifles to the Ministry of Interior, General Directorate of Security, Turkish National Police.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

July 18, 2011 (Transmittal Number 11-057)

The Honorable John A. Boehner, Speaker of the House of Representatives.

Dear Mr. Speaker: Pursuant to Sections 36(c) and 36(d) of the Arms Export Control Act, I am transmitting, herewith, certification of a proposed manufacturing license agreement for the manufacture of significant military equipment abroad and the export of defense articles, to include technical data, and defense services in the amount of $50,000,000 or more.

The transaction described in the attached certification involves the export of defense articles including technical data, and defense services to Singapore for the manufacture of accessory products, fabricated/machined components and assemblies for various U.S.-origin aircraft, vessels and military vehicles.

The United States Government is prepared to license the export of these items having taken into account political, military, economic, human rights, and arms control considerations.

More detailed information is contained in the formal certification which, though unclassified, contains business information submitted to the Department of State by the applicant, publication of which could cause competitive harm to the United States firm concerned.

Sincerely,

Joseph E. Macmanus,

Acting Assistant Secretary, Legislative Affairs.

August 8, 2011 (Transmittal Number 11-058)

The Honorable John A. Boehner, Speaker of the House of Representatives.

Dear Mr. Speaker: Pursuant to Sections 36(c) and 36(d) of the Arms Export Control Act, I am transmitting, herewith, certification of a proposed amendment to a manufacturing license agreement for the manufacture of significant military equipment abroad and the export of defense articles, including technical data, and defense services in the amount of $100,000,000 or more.

The transaction described in the attached certification involves the export of defense articles, including technical data, and defense services to Canada for the design, development and manufacture of the M72A5 Light Anti-Armor Weapon (LAW) system for the Canadian Department of National Defense.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

August 11, 2011 (Transmittal Number 11-059)

The Honorable John A. Boehner, Speaker of the House of Representatives.

Dear Mr. Speaker: Pursuant to Section 36(c) of the Arms Export Control Act, I am transmitting, herewith, certification for the export of defense articles, to include technical data in the amount of $1,000,000 or more.

The transaction described in the attached certification involves the export of 5.56 mm rifles to the Critical National Infrastructure Security Force of the United Arab Emirates.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

September 30, 2011 (Transmittal Number 11-067)

The Honorable John A. Boehner, Speaker of the House of Representatives.

Dear Mr. Speaker: Pursuant to Section 36(d) of the Arms Export Control Act, I am transmitting, herewith, certification of a proposed manufacturing license agreement for the manufacture of significant military equipment abroad.

The transaction described in the attached certification involves the export of defense articles, including technical data, and defense services for the manufacture in Mexico of the Common Range Integrated Instrumentation System for end-use by the Government of the United States.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

September 30, 2011 (Transmittal Number 11-069)

The Honorable John A. Boehner, Speaker of the House of Representatives.

Dear Mr. Speaker: Pursuant to Sections 36(c) and 36(d) of the Arms Export Control Act, I am transmitting, herewith, certification of a proposed amendment to a manufacturing license agreement for the manufacture of significant military equipment abroad and the export of defense articles, including technical data, and defense services in the amount of $50,000,000 or more.

The transaction described in the attached certification involves the export of defense articles, including technical data, and defense services to Australia to support the manufacture and sale of ammunition and ammunition components to domestic law enforcement and government agency customers in the approved sales territory.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

August 8, 2011 (Transmittal Number 11-070)

The Honorable John A. Boehner, Speaker of the House of Representatives.

Dear Mr. Speaker: Pursuant to Sections 36(c) and 36(d) of the Arms Export Control Act, I am transmitting, herewith, certification of a proposed amendment to a manufacturing license agreement for the manufacture of significant military equipment abroad and the export of defense articles, including technical data, and defense services in the amount of $100,000,000 or more.

The transaction described in the attached certification involves the export of defense articles, including technical data, and defense services to Italy for the design, development and of manufacture F135 engine parts and components, including F135 hot section engine parts and components for the Joint Strike Fighter aircraft.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

September 7, 2011 (Transmittal Number 11-071)

The Honorable John A. Boehner, Speaker of the House of Representatives.

Dear Mr. Speaker: Pursuant to Section 36(d) of the Arms Export Control Act, I am transmitting, herewith, certification of a proposed amendment to a manufacturing license agreement for the manufacture of significant military equipment abroad.

The transaction described in the attached certification involves the export of defense articles, including technical data, and defense services to Mexico for the pre-cast and post-cast finishing operations of military aircraft, tank, and naval engine components to include engine hot-section blades for end-use by United States military engine manufacturers.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

August 11, 2011 (Transmittal Number 11-072)

The Honorable John A. Boehner, Speaker of the House of Representatives.

Dear Mr. Speaker: Pursuant to Sections 36(c) and 36(d) of the Arms Export Control Act, I am transmitting, herewith, certification of a proposed amendment to a manufacturing license agreement for the manufacture of significant military equipment abroad and the export of defense articles, including technical data, and defense services in the amount of $50,000,000 or more.

The transaction described in the attached certification involves the export of defense articles, including technical data, and defense services to Norway for the design, development and manufacture of the M72 Lightweight Anti-Armor Weapon (LAW) system for several United States allies in Europe and Asia. The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

August 8, 2011 (Transmittal Number 11-073)

The Honorable John A. Boehner, Speaker of the House of Representatives.

Dear Mr. Speaker: Pursuant to Section 36(c) of the Arms Export Control Act, I am transmitting, herewith, certification of a proposed amendment to a technical assistance agreement to include the export of defense articles, including technical data, and defense services in the amount of $50,000,000 or more.

The transaction described in the attached certification involves the export of defense articles, including technical data, and defense services to Singapore for the maintenance, repair, and overhaul of F100 engines for end-use by the Republic of Singapore Air Force.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

September 30, 2011 (Transmittal Number 11-074)

The Honorable John A. Boehner, Speaker of the House of Representatives.

Dear Mr. Speaker: Pursuant to Section 36(d) of the Arms Export Control Act, I am transmitting, herewith, certification of a proposed manufacturing license agreement for the manufacture of significant military equipment abroad.

The transaction described in the attached certification involves the export of defense articles, to include technical data, and defense services, for the manufacture of the AN/APX-113 Combined Interrogator Transponder (CIT) for end-use by the Republic of Korea Air Force (ROKAF) on their F-16 aircraft.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

August 8, 2011 (Transmittal Number 11-076)

The Honorable John A. Boehner, Speaker of the House of Representatives.

Dear Mr. Speaker: Pursuant to Section 36(c) of the Arms Export Control Act, I am transmitting, herewith, certification of a proposed amendment to a technical assistance agreement to include the export of defense articles, including technical data, and defense services in the amount of $100,000,000 or more.

The transaction described in the attached certification involves the export of defense articles, including technical data, and defense services to the Republic of Korea for the sale of four C-130J-30 aircraft, related spares, and logistics support services to the Republic of Korea Air Force.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

August 8, 2011 (Transmittal Number 11-078)

The Honorable John A. Boehner, Speaker of the House of Representatives.

Dear Mr. Speaker: Pursuant to Section 36(c) of the Arms Export Control Act, I am transmitting, herewith, certification of a proposed technical assistance agreement for the export of defense articles, including technical data, and defense services sold commercially under contract in the amount of $50,000,000 or more.

The transaction described in the attached certification involves the transfer of defense articles, including technical data, and defense services to support the design, manufacturing and delivery phases of the MEXSAT-3 Commercial Communications Satellite Program for Mexico.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

August 11, 2011 (Transmittal Number 11-079)

The Honorable John A. Boehner, Speaker of the House of Representatives.

Dear Mr. Speaker: Pursuant to Section 36(c) of the Arms Export Control Act, I am transmitting, herewith, certification of a proposed technical assistance agreement for the export of defense articles, including technical data, and defense services in the amount of $50,000,000 or more.

The transaction described in the attached certification involves the transfer of defense articles, to include technical data, and defense services to support the Missile Firing Unit (MFU) and Stunner Interceptor Subsystems of the David's Sling Weapon System (DSWS) for end-use by the Government of Israel.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

September 30, 2011 (Transmittal Number 11-080)

The Honorable John A. Boehner, Speaker of the House of Representatives.

Dear Mr. Speaker: Pursuant to Section 36(c) of the Arms Export Control Act, I am transmitting, herewith, certification of a proposed technical assistance agreement to include the export of defense articles, including technical data, and defense services in the amount of $50,000,000 or more.

The transaction described in the attached certification involves the export of defense articles, including technical data, and defense services to India for the development, integration, certification, and testing of the GE F414-INS6 engine with the Light Combat Aircraft for the Government of India.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

August 8, 2011 (Transmittal Number 11-082)

The Honorable John A. Boehner, Speaker of the House of Representatives.

Dear Mr. Speaker: Pursuant to Section 36(c) of the Arms Export Control Act, I am transmitting, herewith, certification of a proposed amendment to a manufacturing license agreement for the export of defense articles, to include technical data, and defense services in the amount of $100,000,000 or more.

The transaction described in the attached certification involves the export of defense articles, including technical data, and defense services to South Korea for the manufacture, assembly and maintenance support of the XTG411 Series Transmission.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

September 30, 2011 (Transmittal Number 11-088)

The Honorable John A. Boehner, Speaker of the House of Representatives.

Dear Mr. Speaker: Pursuant to Section 36(d) of the Arms Export Control Act, I am transmitting, herewith, certification of a proposed amendment to a manufacturing license agreement for the manufacture of significant military equipment abroad.

The transaction described in the attached certification involves the export of defense articles, including technical data, and defense services to the United Kingdom for the manufacture, assembly, modification integration, repair and overhaul of Vertical Gyros, Rate Gyros, Attitude Heading Reference Systems, Compass Systems, Azimuth Gyros and Attitude Indicators.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

September 30, 2011 (Transmittal Number 11-089)

The Honorable John A. Boehner, Speaker of the House of Representatives.

Dear Mr. Speaker: Pursuant to Section 36(d) of the Arms Export Control Act, I am transmitting, herewith, certification of a proposed manufacturing license agreement for the manufacture of significant military equipment abroad.

The transaction described in the attached certification involves the export of defense articles, including technical data, and defense services to Italy for the manufacture of a Multimode Receiver (MMR).

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

September 30, 2011 (Transmittal Number 11-091)

The Honorable John A. Boehner, Speaker of the House of Representatives.

Dear Mr. Speaker: Pursuant to Section 36(d) of the Arms Export Control Act, I am transmitting, herewith, certification of a proposed manufacturing license agreement for the manufacture of significant military equipment abroad.

The transaction described in the attached certification involves the transfer of defense articles, to include technical data, and defense services to South Korea for the manufacture and assembly related to MK 45 Mod 4 Naval Gun Mounts for delivery to and end-use by the Republic of Korea Navy.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

August 9, 2011 (Transmittal Number 11-092)

The Honorable John A. Boehner, Speaker of the House of Representatives.

Dear Mr. Speaker: Pursuant to Section 36(c) of the Arms Export Control Act, I am transmitting, herewith, certification of a proposed technical assistance agreement, to include the export of major defense equipment abroad and the export of defense articles, including technical data, and defense services abroad in the amount of $25,000,000 or more.

The transaction described in the attached certification involves the export of defense articles, including technical data, and defense services to the United Kingdom in support of the sale of Hellfire II missiles.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

October 3, 2011 (Transmittal Number 11-093)

The Honorable John A. Boehner, Speaker of the House of Representatives.

Dear Mr. Speaker: Pursuant to Section 36(c) of the Arms Export Control Act, I am transmitting, herewith, certification of a proposed amendment to a manufacturing license agreement for the export of defense articles, including technical data, and defense services sold commercially under contract in the amount of $100,000,000 or more.

The transaction described in the attached certification involves the transfer of defense articles, including technical data, and defense services to support the manufacture and assembly of the Rolling Airframe Missile (RAM) Guided Missile Round Pack (GMRP) and Guided Missile Launching System (GMLS) for the Republic of Korea.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

September 30, 2011 (Transmittal Number 11-095)

The Honorable John A. Boehner, Speaker of the House of Representatives.

Dear Mr. Speaker: Pursuant to Section 36(c) of the Arms Export Control Act, I am transmitting, herewith, certification of a proposed technical assistance agreement for the export of defense articles, to include technical data, and defense services in the amount of $50,000,000 or more.

The transaction described in the attached certification involves the export of defense articles, including technical data, and defense services to Germany, France, Spain, the United Kingdom, Belgium and Turkey for the design, integration, and testing of the Video Distribution and Processing System for use on the A400M Aircraft.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

October 4, 2011 (Transmittal Number 11-097)

The Honorable John A. Boehner, Speaker of the House of Representatives.

Dear Mr. Speaker: Pursuant to Section 36(c) of the Arms Export Control Act, I am transmitting, herewith, certification of a proposed amendment to a manufacturing license agreement for the export of defense articles, including technical data, and defense services in the amount of $100,000,000 or more.

The transaction described in the attached certification involves the export of defense articles, including technical data, and defense services to the Netherlands for the manufacture of Improved Extended Forward Avionics Bays for the AH-64D Apache Helicopter for end-use by the United States Government.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

October 12, 2011 (Transmittal Number 11-099)

The Honorable John A. Boehner, Speaker of the House of Representatives.

Dear Mr. Speaker: Pursuant to Section 36(c) of the Arms Export Control Act, I am transmitting, herewith, certification of a proposed amendment to a technical assistance agreement to include the export of defense articles, including technical data, and defense services in the amount of $50,000,000 or more.

The transaction described in the attached certification involves the export of defense articles, including technical data, and defense services to Belgium, France, Germany, Spain, Turkey, and the United Kingdom for A400M Aircraft Oxygen Systems for use by the Governments of Belgium, France, Germany, Luxembourg, Malaysia, South Africa, Spain, Turkey, and the United Kingdom.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

October 4, 2011 (Transmittal Number 11-101)

The Honorable John A. Boehner, Speaker of the House of Representatives.

Dear Mr. Speaker: Pursuant to Section 36(c) of the Arms Export Control Act, I am transmitting, herewith, certification of a proposed technical assistance agreement to include the export of defense articles, to include technical data, and defense services in the amount of $50,000,000 or more.

The transaction described in the attached certification involves the transfer of defense articles, to include technical data, and defense services to support the Proton launch of the W5A Commercial Communication Satellite from the Baikonur Cosmodrome in Kazakhstan.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

September 30, 2011 (Transmittal Number 11-102)

The Honorable John A. Boehner, Speaker of the House of Representatives.

Dear Mr. Speaker: Pursuant to Section 36(c) of the Arms Export Control Act, I am transmitting, herewith, certification of a proposed amendment to a technical assistance agreement for the export of defense articles, including technical data, and defense services in the amount of $100,000,000 or more.

The transaction described in the attached certification involves the export of defense articles, including technical data, and defense services to Japan for the export and assembly of the Vertical Launch Anti-Submarine Rocket system for Japan.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

September 30, 2011 (Transmittal Number 11-103)

The Honorable John A. Boehner, Speaker of the House of Representatives.

Dear Mr. Speaker: Pursuant to Section 36(c) of the Arms Export Control Act, I am transmitting, herewith, certification of a proposed export license for the export of defense articles, including technical data, or defense services that are controlled under Category I of the United States Munitions List and sold commercially under contract in the amount of $1,000,000 or more.

The transaction described in the attached certification involves the permanent transfer of defense articles, including technical data, and defense services related to the sale of M134D-H 7.62 Gatling general purpose machine guns, accessories training and spare parts to the Secretaria De La Defensa Nacional, Mexico for ultimate use by Mexico's Federal Police.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

September 30, 2011 (Transmittal Number 11-104)

The Honorable John A. Boehner, Speaker of the House of Representatives.

Dear Mr. Speaker: Pursuant to Section 36(c) of the Arms Export Control Act, I am transmitting, herewith, certification of a proposed technical assistance agreement for the export of defense articles, including technical data, or defense services sold commercially under contract in the amount of $50,000,000 or more.

The transaction described in the attached certification involves the transfer of defense articles, including technical data, and defense services to support the design, manufacturing and delivery phases of the Thaicom-6 Commercial Communications Satellite Program for Thailand.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

September 30, 2011 (Transmittal Number 11-107)

The Honorable John A. Boehner, Speaker of the House of Representatives.

Dear Mr. Speaker: Pursuant to Section 36(d) of the Arms Export Control Act, I am transmitting, herewith, certification of a proposed manufacturing license agreement for the manufacture of significant military equipment abroad.

The transaction described in the attached certification involves the export of defense articles, including technical data, and defense services to Germany for the manufacture of the GE38 engine Low Pressure Turbine Stage 3 Blade in support of the United States Government CH-53K Heavy Lift Helicopter program.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

September 7, 2011 (Transmittal Number 11-108)

The Honorable John A. Boehner, Speaker of the House of Representatives.

Dear Mr. Speaker: Pursuant to Section 36(c) of the Arms Export Control Act, I am transmitting, herewith, certification of a proposed amendment to a manufacturing license agreement for the export of defense articles, including technical data, and defense services in the amount of $100,000,000 or more.

The transaction described in the attached certification involves the export of defense articles, including technical data, and defense services to Canada for the development, testing, and manufacture of the Improved Drive System (IDS) transmission system and parts thereof, for the AH-64D Apache helicopter Block IIII upgrade for end-use by the U.S. Army.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

September 30, 2011 (Transmittal Number 11-113)

The Honorable John A. Boehner, Speaker of the House of Representatives.

Dear Mr. Speaker: Pursuant to Sections 36(c) and 36(d) of the Arms Export Control Act, I am transmitting, herewith, certification of a proposed amendment to a manufacturing license agreement for the manufacture of significant military equipment abroad and the export of defense articles or defense services abroad in the amount of $50,000,000 or more.

The transaction described in the attached certification involves the transfer of defense articles, technical data, and defense services to Russia for the RD-180 Liquid Propellant Rocket Engine Program.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

September 30, 2011 (Transmittal Number 11-116)

The Honorable John A. Boehner, Speaker of the House of Representatives.

Dear Mr. Speaker: Pursuant to Section 36(c) of the Arms Export Control Act, I am transmitting, herewith, certification of a proposed amendment to a technical assistance agreement for the export of defense articles, including technical data, and defense services in the amount of $100,000,000 or more.

The transaction described in the attached certification involves the export of defense articles, including technical data, and defense services to Norway and Canada for the service life extension of the P-3 aircraft.

The United States Government is prepared to license the export of these items having taken into account political, military, economic, human rights, and arms control considerations.

More detailed information is contained in the formal certification which, though unclassified, contains business information submitted to the Department of State by the applicant, publication of which could cause competitive harm to the United States firm concerned.

Sincerely,

David S. Adams,

Assistant Secretary, Legislative Affairs.

Dated: November 30, 2011.
Robert S. Kovac,
Managing Director, Directorate of Defense Trade Controls, Department of State.

[FR Doc. 2011-32534 Filed 12-19-11; 8:45 am]

BILLING CODE 4710-25-P